DEPARTMENT OF ENERGY

Federal Energy Regulatory Commission

[Docket No. ER98-3470-002, et al.]

Great Bay Power Corporation, et al.; Electric Rate and Corporate Regulation Filings

September 9, 2002.

The following filings have been made with the Commission. The filings are listed in ascending order within each docket classification.

1. Great Bay Power Corporation

[Docket No. ER98-3470-002]

Take notice that on August 30, 2002 Great Bay Power Corporation (Great Bay) tendered for filing with the Federal Energy Regulatory Commission (Commission) a Notification of Change in Status. Great Bay seeks to notify the Commission that it intends to sell its 12.13 percent share in the Seabrook Nuclear Power Plant Unit 1 to FPL Energy Seabrook, L.L.C. The proposed transaction should not affect Great Bay's market-based rate status because the transaction will result in a decrease in generation and no new affiliation with any public utility. Comment Date: September 20, 2002.

2. MEP Investments, LLC, MEP Pleasant Hill, LLC, MEP Pleasant Hill Operating, LLC, Pleasant Hill Marketing, LLC, Aquila Merchant Services, Inc.

[Docket No. ER99- ER99-2322-002, ER99-2858-003, ER01-905-002, ER00-1851-002, ER94-216-002

Take notice that on August 30, 2002, MEP Investments, LLC, MEP Pleasant Hill LLC, MEP Pleasant Hill Operating, LLC, Pleasant Hill Marketing, LLC and Aquila Merchant Services, Inc. (the Applicants) tendered for filing with the Federal Energy Regulatory Commission (Commission) an amendment to the Applicants market power analysis.

Comment Date: September 20, 2002.

3. Little Bay Power Corporation

[Docket No. ER99-3050-002]

Take notice that on August 30, 2002 Little Bay Power Corporation (Little Bay) tendered for filing with the Federal Energy Regulatory Commission (Commission) a Notification of Change in Status. Little Bay seeks to notify the Commission that it intends to sell its 2.9 percent share in the Seabrook Nuclear Power Plant Unit 1 to FPL Energy Seabrook, L.L.C. The proposed transaction should not affect Little Bay's market-based rate status because the transaction will result in a decrease in generation and no new affiliation with any public utility. Comment Date: September 20, 2002.

4. Continental Electric Cooperative Services, Inc.

[Docket No. ER02-1118-002]

Take notice that on August 29, 2002, Continental Electric Cooperative Services, Inc. Tendered for filing with the Federal Energy Regulatory Commission (Commission) pursuant to the Commission's July 19, 2002 Order in the above-listed case, a modification of its Rate Schedule #1.

Comment Date: September 19, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-23459 Filed 9-13-02; 8:45 am]

BILLING CODE 6717-01-P